DEPARTMENT OF COMMERCE

Bureau of Industry and Security

[Docket No. 050408100-5100-01]

Revision to the Unverified List—Guidance as to “Red Flags”

AGENCY: Bureau of Industry and Security, Commerce.

ACTION: Notice.

SUMMARY: On June 14, 2002, the Bureau of Industry and Security (“BIS”) published a notice in the Federal Register that set forth a list of persons in foreign countries who were parties to past export transactions where pre-license checks or post-shipment verifications could not be conducted for reasons outside the control of the U.S. Government (“Unverified List”). Additionally, on July 16, 2004, BIS published a notice in the Federal Register that advised exporters that the Unverified List would also include persons in foreign countries in transactions where BIS is not able to verify the existence or authenticity of the end-user, intermediate consignee, ultimate consignee, or other party to the transaction. These notices advised exporters that the involvement of a listed person as a party to a proposed transaction constitutes a “red flag” as described in the guidance set forth in Supplement No. 3 to 15 CFR part 732, requiring heightened scrutiny by the exporter before proceeding with such a transaction. This notice adds one entity to the Unverified List. The entity is: Parrlab Technical Solutions, LTD, 1204, 12F Shanghai Industrial Building, 48-62 Hennesey Road, Wan Chai, Hong Kong Special Administrative Region.

DATES: This notice is effective April 26, 2005.

FOR FURTHER INFORMATION CONTACT: Thomas W. Andrukonis, Office of Enforcement Analysis, Bureau of Industry and Security, Telephone: (202) 482-4255.

SUPPLEMENTARY INFORMATION: In administering export controls under the Export Administration Regulations (15 CFR parts 730 to 774) (“EAR”), BIS carries out a number of preventive enforcement activities with respect to individual export transactions. Such activities are intended to assess diversion risks, identify potential violations, verify end-uses, and determine the suitability of end-users to receive U.S. commodities or technology. In carrying out these activities, BIS officials, or officials of other Federal agencies acting on BIS's behalf, selectively conduct pre-licence checks (“PLCs”) to verify the bona fides of the transaction and the suitability of the end-user or ultimate consignee. In addition, such officials sometimes carry out post-shipment verifications (“PSVs”) to ensure that U.S. exports have actually been delivered to the authorized end-user, are being used in a manner consistent with the terms of a license or license exception, and are otherwise consistent with the EAR.

In certain instances BIS officials, or other Federal officials acting on BIS's behalf, have been unable to perform a PLC or PSV with respect to certain export control transactions for reasons outside the control of the U.S. Government (including a lack of cooperation by the host government authority, the end-user, or the ultimate consignee). BIS listed a number of foreign end-users and consignees involved in such transactions in the Unverified List that was included in BIS's Federal Register notice of June 14, 2002. See 67 FR 40910. On July 16, 2004, BIS published a notice in the Federal Register that advised exporters that the Unverified List would also include persons in foreign countries where BIS is not able to verify the existence or authenticity of the end user, intermediate consignee, ultimate consignee, or other party to an export transaction. See 69 FR 42652.

The June 14, 2002, and July 16, 2004, notices advised exporters that the involvement of a listed person in a transaction constituted a “red flag” under the “Know Your Customer” guidance set forth in Supplement No. 3 to 15 CFR part 732 of the EAR. Under that guidance, whenever there is a “red flag,” exporters have an affirmative duty to inquire, verify, or otherwise substantiate the proposed transaction to satisfy themselves that the transaction does not involve a proliferation activity prohibited in 15 CFR part 744, and does not violate other provisions of the EAR. The Federal Register notices further stated that BIS may periodically add persons to the Unverified List based on the criteria set forth above, and remove persons when warranted.

This notice advises exporters that BIS is adding Parrlab Technical Solutions, LTD in the Hong Kong Special Administrative Region to the Unverified List. A “red flag” now exists for transactions involving this entity due to its inclusion on the Unverified List. As a result, exporters have an affirmative duty to inquire, verify, or otherwise substantiate the proposed transaction to satisfy themselves that the transaction does not involve a proliferation activity prohibited in 15 CFR part 744, and does not violate other provisions of the EAR.

The Unverified List, as modified by this notice, is set forth below.

Dated: April 15, 2005.
Wendy Wysong,
Acting Assistant Secretary for Export Enforcement.

Unverified List

(As of April 26, 2005)

The Unverified List includes names, countries, and last known addresses of foreign persons involved in export transactions with respect to which: the Bureau of Industry and Security (“BIS”) could not conduct a pre license check (“PLC”) or a post shipment verification (“PSV”) for reasons outside of the U.S. Government's control; and/or BIS was not able to verify the existence or authenticity of the end user, intermediate consignee, ultimate consignee or other party to an export transaction. Any transaction to which a listed person is a party will be deemed to raise a “red flag” with respect to such transaction within the meaning of the guidance set forth in Supplement No. 3 to 15 CFR part 732. The red flag applies to the person on the Unverified List regardless of where the person is located in the country included on the list.

Name | Country | Last known address
Lucktrade International | Hong Kong Special Administrative Region | P.O. Box 91150, Tsim Sha Tsui, Hong Kong.
Brilliant Intervest | Malaysia | 14-1, Persian 65C, Jalan Pahang Barat, Kuala Lumpur, 53000.
Dee Communications MSDN.BHD | Malaysia | G5/G6, Ground Floor, Jin Gereja, Johor Bahru.
Peluang Teguh | Singapore | 203 Henderson Road #09-05H, Henderson Industrial Park, Singapore.
Lucktrade International PTE Ltd | Singapore | 35 Tannery Road #01-07 Tannery Block, Ruby Industrial Complex, Singapore 347740.
Arrow Electronics Industries | United Arab Emirates | 204 Arbift Tower, Benyas Road, Dubai.
Jetpower Industrial Ltd | Hong Kong Special Administrative Region | Room 311, 3rd Floor, Wing On Plaza, 62 Mody Road, Tsim Sha Tsui East, Kowloon.
Onion Enterprises Ltd. | Hong Kong Special Administrative Region | Room 311, 3rd Floor, Wing On Plaza, 62 Mody Road, Tsim Sha Tsui East, Kowloon.
Lucktrade International | Hong Kong Special Administrative Region | Room 311, 3rd Floor, Wing On Plaza, 62 Mody Road, Tsim Sha Tsui East, Kowloon.
Litchfield Co. Ltd. | Hong Kong Special Administrative Region | Room 311, 3rd Floor, Wing On Plaza, 62 Mody Road, Tsim Sha Tsui East, Kowloon.
Sunford Trading Ltd. | Hong Kong Special Administrative Region | Unit 2208, 22/F, 118 Connaught Road West.
Parrlab Technical Solutions, LTD | Hong Kong Special Administrative Region | 1204, 12F Shanghai Industrial Building, 48-62 Hennesey Road, Wan Chai.

[FR Doc. 05-8332 Filed 4-25-05; 8:45 am]

BILLING CODE 3510-33-P